DEPARTMENT OF COMMERCE

International Trade Administration

[A-549-835]

Rubber Bands From Thailand: Antidumping Duty Order

AGENCY: Enforcement and Compliance, International Trade Administration, Department of Commerce.

SUMMARY: Based on affirmative final determinations by the Department of Commerce (Commerce) and the International Trade Commission (ITC), Commerce is issuing an antidumping duty (AD) order on rubber bands from Thailand.

DATES: Applicable April 26, 2019.

FOR FURTHER INFORMATION CONTACT: Stephanie Berger at (202) 482-2483 and Laurel LaCivita at 202-482-4243, AD/CVD Operations, Enforcement and Compliance, U.S. Department of Commerce, 1401 Constitution Avenue NW, Washington, DC 20230.

SUPPLEMENTARY INFORMATION:

Background

In accordance with sections 735(d) and 777(i)(1) of the Tariff Act of 1930, as amended (the Act) and 19 CFR 351.210(c), on March 7, 2019, Commerce published its affirmative final determination in the less-than-fair-value (LTFV) investigation of rubber bands from Thailand.¹ On April 22, 2019, the ITC notified Commerce of its final determination, pursuant to section 735(d) of the Act, that an industry in the United States is materially injured by reason of LTFV imports of rubber bands from Thailand, within the meaning of section 735(b)(1)(A)(i) of the Act.²

¹ See Rubber Bands from Thailand: Final Determination of Sales at Less Than Fair Value, 84 FR 8304 (March 7, 2019) (Final Determination).

² See Letter to the Honorable Jeffrey Kessler, Assistant Secretary of Commerce for Enforcement and Compliance, from David S. Johanson, Chairman of the ITC, “Notification of ITC Final Determinations,” dated April 22, 2019 (ITC Notification); see also Rubber Bands from Thailand, Investigation No. 731-TA-1410 (Final), (USITC Publication 4887).

Scope of the Order

The products covered by this order are rubber bands from Thailand. For a complete description of the scope of the order, see the Appendix to this notice.

AD Order

On April 22, 2019, in accordance with section 735(d) of the Act, the ITC notified Commerce of its final determination that an industry in the United States is materially injured within the meaning of section 735(b)(1)(A)(i) of the Act by reason of imports of rubber bands from Thailand that are sold in the United States at LTFV. Therefore, in accordance with section 735(c)(2) of the Act, we are issuing this AD order. Because the ITC determined that imports of rubber bands from Thailand are materially injuring a U.S. industry, unliquidated entries of such merchandise from Thailand entered, or withdrawn from warehouse, for consumption are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of rubber bands from Thailand. With the exception of entries occurring after the expiration of the provisional measures period and before publication of the ITC's final affirmative injury determination, as further described below, antidumping duties will be assessed on unliquidated entries of rubber bands from Thailand entered, or withdrawn from warehouse, for consumption on or after September 6, 2018, the date of publication of the Preliminary Determination.³

³ See Rubber Bands from Thailand: Preliminary Affirmative Determination of Sales at Less Than Fair Value, Postponement of Final Determination, and Extension of Provisional Measures, 83 FR 45220 (September 6, 2018) (Preliminary Determination).

Additionally, because the estimated weighted-average dumping margin for Liang Hah Heng International Rubber Co., Ltd and Hah Shung Heng Co. was determined to be zero in the investigation of rubber bands from Thailand, Commerce is directing CBP to not suspend liquidation of entries of subject merchandise produced by Liang Hah Heng or Hah Shung Heng and exported by either of these companies. However, entries of subject merchandise in any other producer/exporter combination, e.g., merchandise produced by a third party and exported by Liang Hah Heng or Hah Shung Heng, or produced by Liang Hah Heng or Hah Shung Heng and exported by a third party, are subject to the applicable cash deposit rate equal to the estimated weighted-average dumping margin noted below.

Continuation of Suspension of Liquidation

Except as noted above and in the “Provisional Measures” section of this notice below, in accordance with section 735(c)(1)(B) of the Act, we will instruct CBP to continue to suspend liquidation of all relevant entries of rubber bands from Thailand, effective the date of publication of the ITC's notice of final determination in the Federal Register. Because the estimated weighted-average dumping margin for Liang Hah Heng and Hah Shung Heng in the Final Determination was zero, entries of subject merchandise produced by Liang Hah Heng or Hah Shung Heng and exported by either of these companies are not subject to suspension of liquidation or cash deposit requirements. Entries of subject merchandise exported to the United States by any other producer/exporter combination, e.g., merchandise produced by a third party and exported by Liang Hah Heng or Hah Shung Heng, or produced by Liang Hah Heng or Hah Shung Heng and exported by a third party, are not entitled to this exclusion from suspension of liquidation and are subject to the applicable cash deposit rates noted below. These instructions suspending liquidation will remain in effect until further notice.

We will also instruct CBP to require cash deposits equal to the amount as indicated below. Accordingly, effective on the date of publication in the Federal Register of the ITC's final affirmative injury determination, CBP will require, at the same time as importers would normally deposit estimated duties on the subject merchandise, a cash deposit equal to the estimated weighted-average dumping margin listed below. The all-others rate applies to all other producers or exporters not specifically listed.

The estimated weighted-average dumping margin is as follows:

Exporter/producer | Weighted- average margins (percent)
U. Yong Industry Co., Ltd | 5.87
Liang Hah Heng International Rubber Co., Ltd./Hah Shung Heng Co | 0.00
All-Others | 5.87

Provisional Measures

Section 733(d) of the Act states that the suspension of liquidation pursuant to an affirmative preliminary determination may not remain in effect for more than four months, except where exporters representing a significant proportion of exports of the subject merchandise request Commerce to extend that four-month period to no more than six months. At the request of exporters that account for a significant proportion of rubber bands from Thailand, we extended the four-month period to six months. Commerce's Preliminary Determination was published on September 6, 2018. Therefore, the extended period, beginning on the date of publication of the preliminary determination, ended on March 4, 2019. Pursuant to section 737(b) of the Act, the collection of cash deposits at the rates listed above will begin on the date of publication of the ITC's final injury determination.

Therefore, in accordance with section 733(d) of the Act, Commerce will instruct CBP to terminate the suspension of liquidation and to liquidate, without regard to antidumping duties, unliquidated entries of rubber bands from Thailand entered, or withdrawn from warehouse, for consumption after March 4, 2019, the date on which the provisional measures expired, through the day preceding the date of publication of the ITC's final injury determinations in the Federal Register. Suspension of liquidation will resume on the date of publication of the ITC's final determination in the Federal Register.

Notification to Interested Parties

This notice constitutes the AD order with respect to rubber bands from Thailand pursuant to section 736(a) of the Act. Interested parties can find a list of orders currently in effect at http://enforcement.trade.gov/stats/iastats1.html.

This order is published in accordance with sections 736(a) of the Act and 19 CFR 351.211(b).

Dated: April 22, 2019.
Jeffrey I. Kessler,
Assistant Secretary for Enforcement and Compliance.

Appendix

Scope of the Order

The scope of the order covers bands made of vulcanized rubber, with a flat length, as actually measured end-to-end by the band lying flat, no less than ½ inch and no greater than 10 inches; with a width, which measures the dimension perpendicular to the length, actually of at least 3/64 inch and no greater than 2 inches; and a wall thickness actually from 0.020 inch to 0.125 inch. Vulcanized rubber has been chemically processed into a more durable material by the addition of sulfur or other equivalent curatives or accelerators. Subject products are included regardless of color or inclusion of printed material on the rubber band's surface, including but not limited to, rubber bands with printing on them, such as a product name, advertising, or slogan, and printed material (e.g., a tag) fastened to the rubber band by an adhesive or another temporary type of connection. The scope includes vulcanized rubber bands which are contained or otherwise exist in various forms and packages, such as, without limitation, vulcanized rubber bands included within a desk accessory set or other type of set or package, and vulcanized rubber band balls. The scope excludes products that consist of an elastomer loop and durable tag all-in-one, and bands that are being used at the time of import to fasten an imported product.

Excluded from the scope of the order are vulcanized rubber bands of various sizes with arrow shaped rubber protrusions from the outer diameter that exceeds at the anchor point a wall thickness of 0.125 inches and where the protrusion is used to loop around, secure and lock in place.

Excluded from the scope of the order are yarn/fabric-covered vulcanized rubber hair bands, regardless of size.

Merchandise covered by the order is currently classified in the Harmonized Tariff Schedule of the United States (HTSUS) under subheading 4016.99.3510. Merchandise covered by the scope may also enter under HTSUS subheading 4016.99.6050. While the HTSUS subheadings are provided for convenience and customs purposes, the written description of the scope of the order is dispositive.

[FR Doc. 2019-08450 Filed 4-25-19; 8:45 am]

BILLING CODE 3510-DS-P